DEPARTMENT OF THE INTERIOR

National Park Service

[NPS-WASO-WM-PSB-21886; PPWOWMADH2, PPMPSAS1Y.YH0000 (177)]

Proposed Information Collection; National Park Service Background Clearance Initiation Request

AGENCY: National Park Service, Interior.

ACTION: Notice; request for comments.

SUMMARY: We (National Park Service) have sent an Information Collection Request (ICR) to OMB for review and approval. We summarize the ICR below and describe the nature of the collection and the estimated burden and cost. We may not conduct or sponsor and a person is not required to respond to a collection of information unless it displays a currently valid OMB control number. However, under OMB regulations, we may continue to conduct or sponsor this information collection while it is pending at OMB.

DATES: You must submit comments on or before November 25, 2016.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive, Mail Stop 242, Reston, VA 20192; or madonna_baucum@nps.gov (email). Please include “1024-Background Clearance Initiation Request” in the subject line of your comments.

FOR FURTHER INFORMATION CONTACT: To request additional information about this IC, contact Shean Rheams, National Park Service, 1201 Eye Street NW., Washington, DC 20005(mail); or shean_rheames@nps.gov (email).

SUPPLEMENTARY INFORMATION:

I. Abstract

The National Park Service (NPS), as delegated by the U.S. Office of Personnel Management (OPM), is authorized to request information to determine suitability of applicants for Federal employment and non-Federal personnel proposed to work under contractor and/or agreement who require access to NPS property and/or receive a DOIAccess (personal identity verification (PIV)) badges. The conduct of suitability determinations is authorizations under Executive Orders 10450, “Security requirements for Government employment” and 10577, “Amending the Civil Service Rules and authorizing a new appointment system for the competitive service”; sections 3301, 3302, and 9101 of Title 5, United States Code (U.S.C.); and parts 2, 5, 731, and 736 of Title 5, Code of Federal Regulations (CFR), and Federal information processing standards. Section 1104 of Title 5 allows OPM to delegate personnel management functions to other Federal agencies.

In line with new regulations mandated by the OPM and the Department of the Interior (DOI), the NPS Personnel Security Branch is utilizing the Electronic Questionnaires for Investigations Processing (E-QIP) System. As a result, electronic submission of the Standard Form 85, for suitability background investigations (NACI), or the Standard Form 85P, for Public Trust, is now required. The DOI and NPS requires all applicants for Federal employment and non-Federal personnel (contractors, partners, etc.) requiring access to NPS property and/or receive a DOIAccess PIV badge to be processed for a suitability background investigation, in accordance with Executive Order 10450 and the Homeland Security Presidential Directive (HSPD-12). The information is protected in accordance with the Privacy Act, and we will maintain the information in a secure system of records (Interior-DOI-45, “Personnel Security Files—Interior”, 47 FR 11036).

The National Park Service will utilize Form 10-152, “Background Clearance Initiation Request” to create E-QIP accounts necessary to initiate background investigations for all individuals requiring access to NPS property and/or receive a DOIAccess (personal identity verification (PIV)) badge. The OPM and DOI programs initiating background investigations have published notices in the Federal Register describing the systems of records (SORN) in which the records will be maintained.

The information collected via NPS Form 10-152 includes detailed information for each proposed candidate requiring a background clearance, to include:

• Full legal name;

• Social Security Number;

• Date and place of birth;

• Country of citizenship;

• Contact phone number;

• Email address;

• Home address;

• Whether proposed candidate has ever been investigated by another Federal agency; and

• If the candidate was investigated by another Federal agency, they must provide the name of that agency and the date of the investigation.

Additional information required on Form 10-152 for non-Federal personnel includes:

• Name of proposed candidate's company;

• Contract/agreement number; and

• Contract/agreement periods of performance.

II. Data

OMB Control Number: 1024—New.

Title: National Park Service Background Clearance Initiation Request.

Service Form Number(s): NPS Form 10-152, “Background Clearance Initiation Request”.

Type of Request: Existing collection in use without an OMB Control Number.

Description of Respondents: Candidates for Federal employment, as well as contractors, partners, and other non-Federal candidates proposed to work for the NPS under a Federal contract or agreement who require access to NPS property and/or a DOIAccess (PIV) badge.

Respondent's Obligation: Mandatory.

Frequency of Collection: On occasion.

Estimated Number of Responses: 6,500.

Estimated Completion Time per Response: 7 minutes.

Estimated Total Annual Burden Hours: 758.

Estimated Annual Nonhour Burden Cost: None.

III. Comments

On April 1, 2016, we published in the Federal Register (81 FR 18881) a Notice of our intent to request that OMB approve this collection of collection. In that notice, we solicited comments for 60 days, ending on May 31, 2016. No comments were received.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 21, 2016.
Madonna L. Baucum,
Information Collection Clearance Officer, National Park Service.

[FR Doc. 2016-25845 Filed 10-25-16; 8:45 am]

BILLING CODE 4310-EH-P